DEPARTMENT OF COMMERCE

Economic Development Administration

Notice of National Advisory Council on Innovation and Entrepreneurship Meeting

AGENCY: Economic Development Administration, Department of Commerce.

ACTION: Notice of an open meeting.

SUMMARY: The National Advisory Council on Innovation and Entrepreneurship (NACIE) will hold a public meeting on Tuesday, May 2, 2017, from 1:00-3:00 p.m. Eastern Time (ET) and Wednesday, May 3, 2017, from 8:45 a.m.-12:30 p.m. ET. During this time, members will further develop their policy proposals and work plan for their two-year term. Topics to be covered include advanced manufacturing, access to capital in underserved markets, inclusive entrepreneurship, entrepreneurship education in schools and career development programs, and alignment of federal innovation and entrepreneurship programing.

DATES:

Tuesday, May 2, 2017

Time: 1:00 p.m.-3:00 p.m. Eastern Time (ET)

Wednesday, May 3, 2017

Time: 8:45 a.m.—12:30 p.m. ET.

ADDRESSES: Herbert Clark Hoover Building, 1401 Constitution Ave. NW., Washington, DC 20230, Room 1894. Please enter through the library, located on the corner of 15th St. and Pennsylvania Ave. NW., Washington, DC 20230. Please note that pre-clearance is required in order to make a statement during the public comment portion of the meeting. Please be sure to keep all comments to five minutes or less, and submit a brief statement summarizing your comment to Craig Buerstatte (see contact information below) no later than 11:59 p.m. ET on Friday, April 28, 2017.

Teleconference

May 2, 2017

Via WebEx: https://doclibrary-events.webex.com/doclibrary-events/onstage/g.php?MTID=e409cca3fd5c1f89e11872defbf0b82d3

Dial-In: +1 650 479 3207.

Passcode: 395 802 029.

May 3, 2017

Via WebEx: https://doclibrary-events.webex.com/doclibrary-events/onstage/g.php?MTID=ed1e75ff9e9a7b9bf687494cb34088f35.

Dial-In: +1 650 479 3207.

Passcode: 395 621 725.

FOR FURTHER INFORMATION CONTACT: Craig Buerstatte, Office of Innovation and Entrepreneurship, Room 78018, 1401 Constitution Avenue NW., Washington, DC 20230; email: nacie@doc.gov; telephone: +1 202 482 8001; fax: +1 202 273 4781. Please reference “NACIE May 2017 Meeting” in the subject line of your correspondence.

SUPPLEMENTARY INFORMATION: NACIE, established by Section 25(c) of the Stevenson-Wydler Technology Innovation Act of 1980, as amended (15 U.S.C. 3720(c)), and managed by EDA's Office of Innovation and Entrepreneurship (OIE), is a Federal Advisory Committee Act (FACA) committee that provides advice directly to the Secretary of Commerce. NACIE's advice focuses on transformational policies and programs that aim to accelerate innovation and increase the rate at which research is translated into companies and jobs, including through entrepreneurship and the development of an increasingly skilled, globally competitive workforce. Comprised of successful entrepreneurs, innovators, angel investors, venture capitalists, and leaders from the nonprofit and academic sectors, NACIE has presented to the Secretary recommendations from throughout the research-to-jobs continuum regarding topics including improving access to capital, growing and connecting entrepreneurial ecosystems, increasing small business-driven research and development, and understanding the workforce of the future. In its advisory capacity, NACIE also serves as a vehicle for ongoing dialogue with the innovation, entrepreneurship, and workforce development communities.

The final agenda for the meeting will be posted on the NACIE Web site at http://www.eda.gov/oie/nacie/ prior to the meeting. Any member of the public may submit pertinent questions and comments concerning the NACIE's affairs at any time before or after the meeting. Comments may be submitted to the Office of Innovation and Entrepreneurship at the contact information below. Those unable to attend the meetings in person but wishing to listen to the proceedings can do so through a conference call line accessible via +1 650 479 3207 with passcode 395 802 029 on May 2, 2017, and +1 650 479 3207 with passcode 395 621 725 on May 3, 2017. Copies of the meeting minutes will be available by request within 90 days of the meeting date.

Dated: April 17, 2017.
Craig Buerstatte,
Acting Director, Office of Innovation and Entrepreneurship.

[FR Doc. 2017-08084 Filed 4-20-17; 8:45 am]

BILLING CODE 3510-WH-P